DEPARTMENT OF THE INTERIOR

U.S. Geological Survey

[GX14LQ00DXG0200]

Agency Information Collection Activities: Request for Comments on the Classification of Biogeomorphic Attributes and Imagery of Coastal Habitats

AGENCY: U.S. Geological Survey (USGS), Interior.

ACTION: Notice of a new information collection, classification of biogeomorphic attributes and imagery of coastal habitats.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before February 20, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028—NEW Classification of biogeomorphic attributes and imagery of coastal habitats'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028—NEW: Classification of biogeomorphic attributes and imagery of coastal habitats' in all correspondence.

FOR FURTHER INFORMATION CONTACT: E. Robert Thieler, Woods Hole Coastal and Marine Science Center, U.S. Geological Survey, 384 Woods Hole Rd., Woods Hole, MA 02543 (mail); 508-457-2350 (phone); or rthieler@usgs.gov (email). You may also find information about this ICR at www.reginfo.gov.

SUPPLEMENTARY INFORMATION:

I. Abstract

The information collection will be done by trained and vetted personnel to record information about habitats on coastal beaches and the environment surrounding them. It will collect geographic location information, date and time of observation, site identification information, photographic images, and includes a simple biogeomorphic landscape classification of geomorphologic and vegetation characteristics surrounding nest sites. Federal and non-federal partners are the targeted users, Personally Identifiable Information (PII) will not be collected.

The data collected will be used as input into research models of habitat utilization by beach-dependent species—primarily shorebirds. Model outputs will be used to understand habitat availability and utilization in the future as the coast evolves in response to climate and sea-level change. This information can be used to inform land and species management decisions.

The USGS office leading the program is the Woods Hole Coastal and Marine Science Center, in collaboration with the USGS Center for Integrated Data Analytics, and the U.S. Fish and Wildlife Service.

II. Data

OMB Control Number: 1028—NEW.

Title: Classification of biogeomorphic attributes and imagery of coastal habitats.

Type of Request: Approval of new information collection.

Respondent Obligation: None (participation is voluntary).

Frequency of Collection: Data will be collected on an occasional basis, typically during the active growing and breeding season (May-September).

Description of Respondents: Employees of non-governmental organizations, non-federal cooperators/collaborators (e.g., academic scientists, resource managers), State, or local entities (state agencies, counties, towns).

Estimated Total Number of Annual Responses: There will be 100 new training responses with 4000 observation responses.

Estimated Time per Response: We estimate that training will require 20 minutes per person one time. Recording observations will take 5 minutes per person at each site.

Estimated Annual Burden Hours: 364.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number.

Comments: On September 12, 2014, we published a Federal Register notice (79 FR 54742) announcing that we would submit this ICR to OMB for approval and soliciting comments. The comment period closed on November 12, 2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Walter A. Barnhardt,
Director, Woods Hole Coastal and Marine Science Center.

[FR Doc. 2015-00795 Filed 1-20-15; 8:45 am]

BILLING CODE 4311-AM-P